DEPARTMENT OF COMMERCE

International Trade Administration

Notice of Charter Renewal of the U.S. Investment Advisory Council and Soliciting Nominations for Members; Correction

AGENCY: International Trade Administration, Department of Commerce.

ACTION: Notice; correction.

SUMMARY: On April 6, 2018, the Department of Commerce Acting Chief Financial Officer and Assistant Secretary for Administration renewed the charter for the United States Investment Advisory Council (Council) for a two-year period, ending April 5, 2020. The Council is a federal advisory committee under the Federal Advisory Committee Act.

FOR FURTHER INFORMATION CONTACT: Steven Meyers. 202-482-2612.

SUPPLEMENTARY INFORMATION:

Correction

In the Federal Register of June 26, 2018, in FR Doc. 83 FR 29746, on pages 29746-29747, corrections were made to the deadline for submitting information for consideration to the Council in the Dates sections (under the DOCUMENT DETAILS and DATES) and SUPPLEMENTARY INFORMATION section (9th paragraph). The deadline has been corrected to Friday, August 24, 2018, and the corrections should read:

(1) DOCUMENT DETAILS—Dates: All applications for immediate consideration for appointment must be received by 5:00 p.m. Eastern Daylight Time (EDT) on Friday, August 24, 2018. After that date, applications will be accepted under this notice for a period of up to two years from the deadline to fill any vacancies that may arise.

(2) DATES: All applications for immediate consideration for appointment must be received by 5:00 p.m. Eastern Daylight Time (EDT) on Friday, August 24, 2018. After that date, applications will be accepted under this notice for a period of up to two years from the deadline to fill any vacancies that may arise.

(3) SUPPLEMENTARY INFORMATION: To be considered for membership, submit the following information by 5:00 p.m. EDT on Friday, August 24, 2018 to the email address listed in the ADDRESSES section.

Dated: July 20, 2018.
Anthony Diaz,
Program Analyst, Global Markets, International Trade Administration.

[FR Doc. 2018-15946 Filed 7-25-18; 8:45 am]

BILLING CODE 3510-DS-P